FEDERAL DEPOSIT INSURANCE CORPORATION

Agency Information Collection Activities: Submission For OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Interagency Notice of Change in Control.

OMB Number: 3064-0019.

Form Number: 6822/01.

Annual Burden

Estimated annual number of respondents: 40.

Estimated time per response: 30 hours.

Total annual burden hours: 1,200 hours.

Expiration Date of OMB Clearance: January 31, 2003.

SUPPLEMENTARY INFORMATION: The interagency notice of change in control is submitted regarding any person proposing to acquire ownership control of an insured state nonmember bank . The information is used by the FDIC to determine whether the competence, experience, or integrity of any acquiring person, indicates that it would not be in the interest of the depositors of the bank or in the interest of the public, to permit such persons to control the bank.

2. Type of Review: Renewal of a currently approved collection.

Title: Asset Purchaser Eligibility.

OMB Number: 3064-0135.

Annual Burden:

Estimated number of respondents: 2,500.

Estimated time per response: 30 minutes.

Total annual burden hours: 1,250 hours.

Expiration Date of OMB Clearance: January 31, 2003.

SUPPLEMENTARY INFORMATION: The Purchaser Eligibility Certification implements the statutory requirement that assets held by the FDIC in the course of liquidating any Federally insured institution not be sold to persons who contributed to the demise of an insured institution in specified ways.

OMB Reviewer: Joseph F. Lackey, Jr. (202) 395-4741, Office of Management and Budget, Office of Information and Regulatory Affairs, Washington, DC 20503.

FDIC Contact: Tamara R. Manly, (202) 898-7453, Legal Division, Room MB-3109, Federal Deposit Insurance Corporation, 550 17th Street, NW., Washington, DC 20429.

Comments: Comments on these collections of information are welcome and should be submitted on or before February 27, 2003, to both the OMB reviewer and the FDIC contact listed above.

ADDRESSES: Information about this submission, including copies of the proposed collections of information, may be obtained by calling or writing the FDIC contact listed above.

Dated: January 23, 2003.
Federal Deposit Insurance Corporation.
Robert E. Feldman,
Executive Secretary.

[FR Doc. 03-1893 Filed 1-27-03; 8:45 am]

BILLING CODE 6714-01-P